CORPORATION FOR NATIONAL AND COMMUNITY SERVICE

Sunshine Act Notice

The Board of Directors of the Corporation for National and Community Service gives notice of the following meeting:

Date and Time: Wednesday, May 24, 2017, 3:00-4:00 p.m. (ET).

Place: Corporation for National and Community Service, 250 E Street SW., Suite 4026, Washington, DC 20525 (Please go to the first floor lobby reception area for escort).

Call-in Information: This meeting is available to the public through the following toll-free call-in number: 800-779-9469 conference call access code number 6366753. Any interested member of the public may call this number and listen to the meeting. Callers can expect to incur charges for calls they initiate over wireless lines, and CNCS will not refund any incurred charges. Callers will incur no charge for calls they initiate over land-line connections to the toll-free telephone number. Replays are generally available one hour after a call ends. The toll-free phone number for the replay is 800-944-3743. TTY: 402-998-1748. The end replay date is June 7, 2017 at 11:59 p.m. (ET).

Status: Open.

Matters to be Considered:

I. Chair's Opening Comments

II. Acting CEO Report

III. Public Comments

IV. Final Comments and Adjournment

Members of the public who would like to comment on the business of the Board may do so in writing or in person. Individuals may submit written comments to eharsch@cns.gov with subject line: MAY 2017 CNCS BOARD MEETING by 5:00 p.m. (ET) on May 22, 2017. Individuals attending the meeting in person who would like to comment will be asked to sign-in upon arrival. Comments are requested to be limited to 2 minutes.

Reasonable Accommodations: The Corporation for National and Community Service provides reasonable accommodations to individuals with disabilities where appropriate. Anyone who needs an interpreter or other accommodation should notify Eric Harsch at eharsch@cns.gov or 202-606-6928 by 5 p.m. (ET) on May 19, 2017.

Contact Person for More Information: Eric Harsch, Program Support Assistant, Corporation for National and Community Service, 250 E Street SW., Washington, DC 20525. Phone: 202-606-6928. Fax: 202-606-3460. TTY: 800-833-3722. Email: eharsch@cns.gov.

Dated: May 10, 2017.
Angela Williams,
Acting General Counsel.

[FR Doc. 2017-09770 Filed 5-10-17; 4:15 pm]

BILLING CODE 6050-28-P